DEPARTMENT OF COMMERCE

Foreign-Trade Zones Board

[B-12-2022]

Foreign-Trade Zone (FTZ) 38—Spartanburg County, South Carolina; Authorization of Production Activity, Swafford Warehousing, Inc. (Medical Kits), Greer, South Carolina

On April 5, 2022, the South Carolina State Ports Authority, grantee of FTZ 38, submitted a notification of proposed production activity to the FTZ Board on behalf of Swafford Warehousing, Inc., within FTZ 38, in Greer, South Carolina.

The notification was processed in accordance with the regulations of the FTZ Board (15 CFR part 400), including notice in the Federal Register inviting public comment (87 FR 21870, April 13, 2022). On August 3, 2022, the applicant was notified of the FTZ Board's decision that no further review of the activity is warranted at this time. The production activity described in the notification was authorized, subject to the FTZ Act and the FTZ Board's regulations, including Section 400.14.

Dated: August 3, 2022.
Andrew McGilvray,
Executive Secretary.

[FR Doc. 2022-16910 Filed 8-5-22; 8:45 am]

BILLING CODE 3510-DS-P